DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

John G. Pastorino, Ph.D., Rowan University School of Osteopathic Medicine: Based on an assessment conducted by Rowan University School of Osteopathic Medicine (RUSOM), the Respondent's desire to conclude the matter, and analysis conducted by ORI in its oversight review, ORI found that Dr. John G. Pastorino, Associate Professor, Department of Molecular Biology, RUSOM, engaged in research misconduct in research supported by National Institute on Alcohol Abuse and Alcoholism (NIAAA), National Institutes of Health (NIH), grant R01 AA012897 and National Cancer Institute (NCI), NIH, grant R01 CA118356.

ORI found that Respondent engaged in research misconduct by intentionally falsifying and/or fabricating data reported in the following eight (8) published papers, one (1) unpublished manuscript, and one (1) NIH grant application:

• J. Cell. Sci. 123:894-902, 2010 (hereafter referred to as “J. Cell. Sci. 2010a”)

• J. Cell. Sci. 123:4117-4127, 2010 (hereafter referred to as “J. Cell. Sci. 2010b”)

• J. Cell. Sci. 125:2995-3003, 2012 (hereafter referred to as “J. Cell. Sci. 2012”)

• J. Cell. Sci. 126:274-288, 2013 (hereafter referred to as “J. Cell. Sci. 2013”)

• J. Cell. Sci. 127:896-907, 2014 (hereafter referred to as “J. Cell. Sci. 2014”)

• Biol. Open. 1-11:10;bio.014712, 2015 (hereafter referred to as “Biol. Open. 2015”)

• BioChim Biophys Acta. 1827:38-49, 2013 (hereafter referred to as “BioChim Biophys Acta. 2013”)

• J. Biol. Chem. 289:26213-26225, 2014 (hereafter referred to as “J. Biol. Chem. 2014”)

• J. Cell. Science, Submitted manuscript, 2015 (hereafter referred to as “J. Cell. Sci. manuscript 2015”)

• R01 HL132672-01, “Regulation by Sirtuin-3 and Mitoneet of the Permeability Transition Pore in Heart during Ischemia/Reperfusion Injury,” John Pastorino, Ph.D., Principal Investigator ORI found that Dr. Pastorino falsified and/or fabricated Western blot data for mitochondrial function related to cell/tissue injury, in fifty-eight (58) blot panels included in forty-two (42) figures in eight (8) publications, one (1) unpublished manuscript, and one (1) grant application. In the absence of valid Western blot images, the Respondent fabricated and/or falsified quantitative data in associated bar graphs, statistical analyses presented in figure legends, and related text.

Specifically, ORI found that Respondent duplicated images, or trimmed and/or manipulated blot images from unrelated sources to obscure their origin, and relabeled them to represent different experimental results in:

• Figures 2A, 2C, 3B, 5A, 7B, and 8A in J. Cell. Sci. 2010a

• Figures 2B, 5A, 6A, and 6B in J. Cell. Sci. 2010b

• Figures 1A, 2A, 2B, 4C, 5A, 5B, 6A, 7A, 7B, and 7C in J. Cell. Sci. 2012

• Figures 4F, 5H, and 6A in J. Cell. Sci. 2013

• Figures 1B, 2B, 2C, 3A, 3B, and 4D in J. Cell. Sci. 2014

• Figures 3A and 6B in Biol. Open 2015

• Figure 2A in BioChim Biophys Acta. 2013

• Figures 1B, 3A, 4D, 5E, and 6C in J. Biol. Chem. 2014

• Figure 3A in J. Cell. Sci. manuscript 2015

• Figures 3, 8A, 12, and 13A in R01 HL132672-01 NIH grant application

Dr. Pastorino has entered into a Voluntary Exclusion Agreement (Agreement) and has voluntarily agreed for a period of five (5) years, beginning on April 27, 2016:

(1) To exclude himself from any contracting or subcontracting with any agency of the United States Government and from eligibility or involvement in nonprocurement programs of the United States Government referred to as “covered transactions” pursuant to HHS' Implementation (2 CFR part 376 et seq.) of OMB Guidelines to Agencies on Governmentwide Debarment and Suspension, 2 CFR part 180 (collectively the “Debarment Regulations”);

(2) that he will neither apply for nor permit his name to be used on any application, proposal, or other request for funds to the United States Government or any of its agencies, as defined in the Debarment Regulations; Respondent will further ensure that during the period of the voluntary exclusion, he will neither receive nor be supported by funds of the United States Government and its agencies made available through grants, subgrants, cooperative agreements, contracts, or subcontracts, as discussed in the Debarment Regulations; and

(3) to exclude himself from serving in any advisory capacity to the U.S. Public Health Service (PHS) including, but not limited to, service on any PHS advisory committee, board, and/or peer review committee, or as a consultant.

FOR FURTHER INFORMATION CONTACT: Director, Office of Research Integrity, 1101 Wootton Parkway, Suite 750, Rockville, MD 20852, (240) 453-8200.

Kathryn Partin,
Director, Office of Research Integrity.

[FR Doc. 2016-11317 Filed 5-12-16; 8:45 am]

BILLING CODE 4150-31-P